FEDERAL COMMUNICATIONS COMMISSION

47 CFR Part 73

[DA 06-730; MB Docket No. 05-270; RM-11268, RM-11272]

Radio Broadcasting Services; Aguila, Apache Junction, Buckeye, Glendale, Peoria, Wenden, and Wickenburg, AZ

AGENCY: Federal Communications Commission (FCC).

ACTION: Final rule.

SUMMARY: In response to a Notice of Proposed Rule Making, this Report and Order grants the Petition for Rule Making filed by Black Entrepreneur Association, Inc. (“BEA”), and allots Channel 229C3 to Wickenburg, Arizona. The reference coordinates for Channel 229C3 at Wickenburg are 33-53-49 NL and 112-54-45 WL, with a site restriction of 18.7 kilometers (11.6 miles) southwest of Wickenburg. The Report and Order also dismisses the mutually exclusive Petition for Rule Making filed by Entravision Holdings, L.L.C. (“Entravision”). Entravision had proposed to upgrade Channel 296C3, Station KVVA-FM, Apache Junction, Arizona to Channel 296C1 and to reallot Channel 296C1 from Apache Junction to Peoria, Arizona; substitute Channel 229C3 for vacant Channel 297C3 at Aguila, Arizona; upgrade Channel 295A, Station KDVA(FM), Buckeye, Arizona, to Channel 295C3, and reallot Channel 295C3 to Wenden, Arizona; and to reallot Channel 278C, Station KLNZ(FM), from Glendale to Buckeye, Arizona. Entravision's Petition for Rule Making was dismissed because its proposal to upgrade Channel 296C3, Station KVVA-FM, to Channel 296C1 and reallot Channel 296C1 to Apache Junction was mutually exclusive with a protected FM application.

DATES: Effective May 15, 2006.

ADDRESSES: Federal Communications Commission, 445 Twelfth Street, SW., Washington, DC 20554.

FOR FURTHER INFORMATION CONTACT: R. Barthen Gorman, Media Bureau, (202) 418-2180.

SUPPLEMENTARY INFORMATION: This is a synopsis of the Commission's Report and Order, MB Docket No. 05-270, adopted March 29, 2006, and released March 31, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Arizona, is amended by adding Channel 229C3 at Wickenburg.

Federal Communications Commission.
John A. Karousos,
Assistant Chief, Audio Division, Media Bureau.

[FR Doc. 06-3849 Filed 4-25-06; 8:45 am]

BILLING CODE 6712-01-P